DEPARTMENT OF TRANSPORTATION

Federal Highway Administration

Environmental Impact Statement: I-80/I-215 Parley's Interchange, Salt Lake County, Utah

AGENCY: Federal Highway Administration (FHWA), DOT.

ACTION: Notice of intent to prepare an Environmental Impact Statement.

SUMMARY: FHWA, on behalf of the Utah Department of Transportation (UDOT), is issuing this notice to advise the public that an Environmental Impact Statement (EIS) will be prepared for proposed transportation improvements to the I-80/I-215 Parleys Interchange in Salt Lake County, Utah.

FOR FURTHER INFORMATION CONTACT: Naomi Kisen, Environmental Program Manager, Environmental Services Division, UDOT 4501 South 2700 West, P.O. Box 141265, Salt Lake City, Utah 84114-1265 Telephone: (801) 965-4603, email: nkisen@utah.gov. Rebecka Stromness, Parley's Interchange Project Manager, UDOT Region 2, 2010 South 2760 West, Salt Lake City, UT 84104-4592; Telephone: (801) 887-3470, Email: rstromness@utah.gov.

SUPPLEMENTARY INFORMATION: The environmental review, consultation, and other actions required by applicable federal environmental laws for this project are being or have been carried out by UDOT pursuant to 23 U.S.C. 327 and a Memorandum of Understanding dated January 17, 2017, and executed by FHWA and UDOT. UDOT, as the assigned National Environmental Policy Act (NEPA) agency, will prepare an EIS for a proposal to address safety and current and projected traffic demand on the I-80/I-215 Parley's interchange in Salt Lake County, Utah. The proposed project study area extends on I-80 from 1300 East to the Mt. Aire Canyon Road interchange, on I-215 from the I-80/-215 interchange to 3900 South, on Foothill Drive from the I-80/-215 interchange to Stringham Avenue, and on Parley's Way from the I-80/I-215 interchange to Wilshire Drive. Safety and transportation improvements are needed to address current identified design deficiencies and current and projected 2050 travel demand at the interchange. To address these needs, UDOT is proposing to upgrade the interchange, including potentially adding capacity to the interchange and the surrounding road network to make the interchange operate efficiently. If implemented as proposed, the project will require FHWA to approve an Interchange Access Change Request from UDOT for modifications to the interchange.

UDOT will consider a range of alternatives based on the purpose of and need for the project and taking into account agency and public input. The currently contemplated alternatives include: (1) Taking no action (no-build); (2) the proposed action, i.e., upgrading the interchange, including potentially adding capacity to the interchange and the surrounding road network to make the interchange operate efficiently; (3) using alternate travel modes; (4) using transportation demand management to improve the efficiency of the existing road network; (5) combinations of any of the above; and (6) other reasonable alternatives if identified during the scoping process. Alternatives that do not meet the project purpose and need or that are otherwise not reasonable will not be carried forward for detailed consideration.

A Coordination Plan is being prepared to define the agency and public participation procedure for the environmental review process. The plan will outline (1) how agencies and the public will provide input during the scoping process; (2) the development of the purpose and need; and (3) alternatives development.

Letters describing the proposed action and soliciting comments will be sent to appropriate Federal, state, and local agencies as well as to Native American tribes and to private organizations and citizens who have previously expressed, or who are known to have, an interest in this proposal. A public scoping meeting will be held in the study area from 4:00 p.m. to 7:00 p.m. on March 6, 2018 at Highland High School, 2166 S 1700 E, Salt Lake City, Utah. Public notices announcing the meeting will be published in the region. Information regarding this meeting and the project may also be obtained through a public website maintained by UDOT at www.udot.utah.gov/parleysEIS.

During the NEPA process, other public meetings will be held as appropriate to allow the public, as well as Federal, state, and local agencies, and tribes, to provide comments on the purpose of and need for the project, potential alternatives, and social, economic, and environmental issues of concern.

In addition, a public hearing will be held following the release of the Draft EIS. Public notice advertisements and direct mailings will notify interested parties of the time and place of the public meetings and the public hearing. The Draft EIS will be available for public and agency review and comment prior to the public hearing.

To ensure that the full range of issues related to this proposed action is addressed and all significant issues are identified, comments and suggestions are invited from all interested parties. Written comments or questions concerning this proposed action and the EIS should be directed to UDOT representatives at the mail or email addresses provided above by March 30, 2018. For additional information please visit the project website at www.udot.utah.gov/parleysEIS. Information requests or comments can also be provided by email to parleysEIS@utah.gov. (Catalog of Federal and Domestic Assistance Program Number 20.205, Highway Research, Planning and Construction. The regulations implementing Executive Order 12372 regarding intergovernmental consultation on Federal programs and activities apply to this program.)

Dated: January 31, 2018.
Ivan Marrero,
Division Administrator, Federal Highway Administration, Salt Lake City, Utah.

[FR Doc. 2018-02609 Filed 2-8-18; 8:45 am]

BILLING CODE 4910-22-P